DEPARTMENT OF TRANSPORTATION

Federal Aviation Administration

Thirty Sixth RTCA SC-216 Aeronautical Systems Security Plenary

AGENCY: Federal Aviation Administration (FAA), U.S. Department of Transportation (DOT).

ACTION: Thirty Sixth RTCA SC-216 Aeronautical Systems Security Plenary.

SUMMARY: The FAA is issuing this notice to advise the public of a meeting of Thirty Sixth RTCA SC-216 Plenary.

DATES: The meeting will be held November 13-17, 2017 9:00 a.m.-5:00 p.m. CET.

ADDRESSES: The meeting will be held at: EASA (Mon-Thu), Avenue de Cortenbergh 100, 1040 Brussels, Belgium, EUROCONTROL (Fri), Rue de la Fusee, 96, 1130 Bruxelles (Haren), Brussels, Belgium.

FOR FURTHER INFORMATION CONTACT: Karan Hofmann at khofmann@rtca.org or 202-330-0680, or The RTCA Secretariat, 1150 18th Street NW., Suite 910, Washington, DC 20036, or by telephone at (202) 833-9339, fax at (202) 833-9434, or Web site at http://www.rtca.org. Registration is required.

SUPPLEMENTARY INFORMATION: Pursuant to section 10(a)(2) of the Federal Advisory Committee Act (Pub. L. 92-463, 5 U.S.C., App.), notice is hereby given for a meeting of the Thirty Sixth RTCA SC-216 Plenary. The agenda will include the following:

Monday, November 13, 2017—9:00 a.m.-5:00 p.m. (EASA)

1. Welcome and Administrative Remarks

2. Introductions

3. Agenda Review

4. Meeting-Minutes Review

5. Review Joint Action List

6. Continuation of Plenary or Working Group Sessions

Tuesday, November 14, 2017—9:00 a.m.-5:00 p.m. (EASA)

Continuation of Plenary or Working Group Sessions

Wednesday, November 15, 2017—9:00 a.m.-5:00 p.m. (EASA)

Continuation of Plenary or Working Group Sessions

Thursday, November 16, 2017—9:00 a.m.-5:00 p.m. (EASA)

Continuation of Plenary or Working Group Sessions

Friday, November 17, 2017—9:00 a.m.-12:00 p.m. (EUROCONTROL)

1. Schedule Update

2. Date, Place and Time of Next Meeting

3. New Business

4. Adjourn Plenary

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on September 27, 2017.
Mohannad Dawoud,
Management & Program Analyst, Partnership Contracts Branch, ANG-A17, NextGen, Procurement Services Division, Federal Aviation Administration.

[FR Doc. 2017-21057 Filed 9-29-17; 8:45 am]

BILLING CODE 4910-13-P